DEPARTMENT OF TRANSPORTATION

Federal Aviation Administration

Notice of Availability of the Record of Decision for the Final Environmental Impact Statement, St. George Replacement Airport, St. George, Washington County, UT

AGENCY: Federal Aviation Administration, DOT.

ACTION: Notice of availability of a record of decision.

SUMMARY: The Federal Aviation Administration (FAA) has completed and is making publicly available its Record of Decision (ROD) for the Final Environmental Impact Statement (FEIS) containing a DOT Section 4(f)/303(c) Evaluation of a Proposed Replacement Airport for the City of St. George, Utah, Washington County, Utah.

FOR FURTHER INFORMATION CONTACT: Mr. T.J. Stetz, Regional Environmental Protection Specialist, Federal Aviation Administration, Northwest Mountain Region, Airports Division, 1601 Lind Avenue, SW., Suite 315, Renton, Washington 98057-3356; telephone: (425) 227-2611; FAX: (425) 227-1600; and E-mail: TJ.Stetz@faa.gov.

SUPPLEMENTARY INFORMATION: The FAA has completed and is making publicly available its Record of Decision for the proposed replacement airport at St. George, Utah. The FAA has published a Notice of Availability of the FEIS in the Federal Register on May 12, 2006. The FAA prepared the FEIS pursuant to the National Environmental Policy Act of 1969. The FEIS assesses the potential impact of the proposed replacement airport, as well as the “No Action Alternative” of not constructing a new airport. The FAA accepted comments on the FEIS and prepared responses to the comments, both of which are included in an appendix to the ROD.

The FAA selected the proposed replacement airport as the preferred alternative in meeting the purpose and need for improvements for St. George. The proposed replacement airport alternative includes the following federal actions: Construction and operation of a new 9,300-foot runway (01/19), and all support facilities (i.e., taxiways and associated lighting; a passenger terminal, apron, and associated parking; an aircraft rescue and fire-fighting (ARFF) facility; facilities for a fixed-base operator, general and corporate aviation, and air cargo; fuel farm facilities; airport maintenance facilities; and airport access to the Southern Corridor Highway). Also included in the installation of navigational aids, airspace use, and approach and departure procedures.

Copies of the ROD will be available for public review during normal business hours at the following locations:

1. FAA Northwest Mountain Region Headquarters, 1601 Lind Avenue, SW., Suite 315, Renton, WA 98057-3356, (425) 227-2611.

2. FAA, Denver Airports District Office, 26805 East 68th Avenue, Suite 224, Denver, CO 80249-6361, (303) 342-1252.

3. St. George Municipal Building, 175 East 200 North, St. George, UT 84770, (435) 634-5800.

4. St. George Airport, 620 S. Airport Road, St. George, UT 84770, (435) 634-5822.

5. Zion National Park Headquarters, Springdale, UT 84767-1099.

6. Cedar City Library, 303 North 100 East, Cedar City, UT 84720.

7. Hurricane Valley Branch, 36 South 300 West, Huyrricane, UT 84737.

8. Santa Clara Branch, 1099 North Lava Flow Drive, St. George, UT 84770.

9. Springdale Branch, 898 Zion Park Blvd, Springdale, UT 84767-0509.

10. Washington County, 50 South Main, St. George, UT 84770.

11. Salt Lake City—Main Library, 210 E 400 S., Salt Lake City, UT 84111.

12. Kanab City Library—374 N. Main Street, Kanab, UT 84741.

13. Las Vegas—Main Branch, 2300 Civic Center Drive, North Las Vegas, NV 89030.

14. Los Angeles County Library—Main Branch, 12700 Grevillea Avenue, Hawthorne, CA 90250.

15. Flagstaff Coconino County—Main Library, 300 W. Aspen Avenue, Flagstaff, AZ 86001.

An electronic copy of the ROD will be available on the project Web site at: http://www.airportsites.net/squ-eis, beginning August 21, 2006.

Issued in Renton, Washington, on August 21, 2006.
Lowell H. Johnson,
Manager, Airports Division, Northwest Mountain Region.

[FR Doc. 06-7141 Filed 8-24-06; 8:45 am]

BILLING CODE 4910-13-M